DEPARTMENT OF ENERGY

Federal Energy Regulatory Commission

Notice of Application for a Waiver of Releases Under Article 405 of License for the 2005-2006 Water Year and Soliciting Comments, Motions to Intervene, and Protests

April 12, 2006.

Take notice that the following hydroelectric application has been filed with the Commission and is available for public inspection:

a. Type of Application: Request for a waiver of non-irrigation releases under Article 405 of the license for the water year 2005-2006.

b. Project No: P-1417-178.

c. Date Filed: April 5, 2006.

d. Applicant: Central Nebraska Public Power & Irrigation District.

e. Name of Project: Kingsley Dam Project.

f. Location: The project is located on the North Platte and Platte Rivers in Garden, Keith, Lincoln, Dawson, and Gosper Counties in south-central Nebraska.

g. Pursuant to: Federal Power Act, 16 U.S.C. 791a-825r.

h. Applicant Contact: Mr. Mike Drain, Natural Resources Supervisor, Central Nebraska Public Power and Irrigation District, 415 Lincoln Street, P.O. Box 740, Holdrege, NE 68949; (308) 995-8601.

i FERC Contact: Any questions on this notice should be addressed to Mr. Vedula Sarma at (202) 502-6190, or e-mail address: vedula.sarma@ferc.gov.

j. Deadline for filing comments and or motions: April 27, 2006.

k. Description of Request: Because of prolonged and severe drought, Nebraska Public Power and Irrigation District requests a waiver, for the water year 2005-2006, of a requirement under license Article 405 for non-irrigation season releases from Lake McConaughy for diversion at the Keystone Diversion Dam.

l. Locations of the Application: A of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-5821 Filed 4-18-06; 8:45 am]

BILLING CODE 6717-01-P